DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-1243.

Proposed Project: 2008 National Survey of Mental Health Treatment Facilities (NSMHTF) (OMB No. 0930-0119)—Revision

The Substance Abuse and Mental Health Services Administration's (SAMHSA) Center for Mental Health Services (CMHS) will conduct a 2008 NSMHTF. This national survey represents a re-design of the biennial Survey of Mental Health Organizations (SMHO) last conducted in 2004 under OMB No. 0930-0119. Instead of surveying each mental health organization as a whole, the 2008 NSMHTF will survey all of the mental health treatment locations. These separate mental health service locations are called facilities, in contrast to mental health organizations, which may include multiple facilities (service locations). This survey will be (a) a 100 percent enumeration of all known mental health treatment facilities nationwide, (b) more consumer-oriented in describing services available at each facility location, and (c) patterned after SAMHSA's Office of Applied Studies National Survey of Substance Abuse Treatment Services (OMB No. 0930-0106).

The 2008 NSMHTF will utilize one questionnaire for all mental health treatment facility types including hospitals, residential treatment centers and outpatient clinics. The information collected will include intake telephone numbers for services, types of services offered and acceptable forms of payment, emergency hotline numbers, facility caseload, and facility bed counts, if applicable. All treatment facilities will be contacted by telephone prior to the mailing to verify their eligibility, and facility type.

The resulting database will be used to provide both state and national estimates of facility types and their patient caseloads. Information from the 2008 survey will also be used to update the National Mental Health Information Center's facility locator for consumers. In addition, data derived from the survey will be published by CMHS in Data Highlights, in Mental Health, United States, and in professional journals such as Psychiatric Services and the American Journal of Psychiatry. The publication Mental Health, United States is used by the general public, State governments, the U.S. Congress, university researchers, and other health care professionals. The following Table summarizes the estimated response burden for the survey.

Estimated Total Response Burden for the 2008 NSMHTF
Facility Type | Number of respondents | Responses per respondent | Average hours per response | Total hour burden
Public Psychiatric Hospitals | 502 | 1 | 1 | 502
Private Psychiatric Hospitals | 557 | 1 | 1 | 557
General Hospitals | 1,599 | 1 | 1 | 1,599
Dept. of Veterans Affairs Medical Centers | 150 | 1 | 1 | 150
Dept. of Veterans Community-Based Outpatient Clinics | 810 | 1 | 1 | 810
Residential Treatment Centers for SED | 1,456 | 1 | 1 | 1,456
Outpatient Clinics | 3.493 | 1 | 1 | 3,493
Multi-Setting Facilities | 5,264 | 1 | 1 | 5,264
Total Facilities | 13,831 |  |  | 13,831
3-Year Average | 4,610 |  |  | 4,610

Written comments and recommendations concerning the proposed information collection should be sent by February 1, 2008 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: December 21, 2007.
Elaine Parry,
Acting Director, Office of Program Services.

[FR Doc. E7-25386 Filed 12-31-07; 8:45 am]

BILLING CODE 4162-20-P